DEPARTMENT OF ENERGY

Federal Energy Regulatory Commission

[Docket No. RP98-40-027]

Panhandle Eastern Pipe Line Company; Notice of Refund Report

October 12, 2000.

Take notice that on May 18, 2000, Panhandle Eastern Pipe Line Company (PEPL) tendered for filing its 1999 Kansas Ad Valorem Tax Annual Report in the above-referenced docket pursuant to the Commission's Order Denying Petitions for Adjustment and Establishing Procedures for the Payment of Refunds issued September 10, 1997, in Docket No. RP97-369-000, et al. (September 10, 1997 Order).

PEPL states that Appendix A to its filing contains the Kansas Ad Valorem tax refunds due from PEPL's May 18, 1999 refund report, and reflects the adjustments for additional Kansas Ad Valorem tax refunds that would result from the Commission's Order on Remand issued on April 12, 2000 in Docket No. RP97-369-013. In accordance with Ordering Paragraph (B) of the Commission's February 29, 2000 Order Accepting Refund Report in Docket No. RP98-40-22, PEPL has updated the carrying charges on the unpaid amounts in column (3) of Appendix A. The Kansas Ad Valorem Tax refund amounts due at March 31, 2000 are shown in column (4) of Appendix A. PEPL will be notifying the producer suppliers that have an adjusted refund amount resulting from the Commission's April 12, 2000 Order.

In its May 18, 1999 refund report, PEPL indicated that it has received refunds of Kansas Ad Valorem Taxes during the period April 1998 through April 1999 totaling $125,724.51. PEPL has received no additional Kansas Ad Valorem Tax refunds from its producer suppliers during the twelve-month period April 1999 through March 2000. Pursuant to the Commission's September 10, 1997 order, PEPL will continue to accrue interest on the amounts shown in Appendix B until they are distributed to its jurisdictional customers.

PEPL states that copies of its filing have been provided to all parties and respective State Regulatory Commissions.

Any person desiring to protest said filing should file a protest with the Federal Energy Regulatory Commission, 888 First Street, N.E., Washington, D.C. 20426, in accordance with Section 385.211 of the Commission's Rules and Regulations. All such protests must be filed on or before October 23, 2000. Protests will be considered by the Commission in determining the appropriate action to be taken, but will not serve to make protestants parties to the proceedings. Copies of this filing are on file with the Commission and are available for public inspection in the Public Reference Room. This filing may be reviewed on the web at http://www.ferc.fed.us/online/rims.htm (call 202-208-2222 for assistance).

David P. Boergers,
Secretary.

[FR Doc. 00-26697 Filed 10-17-00; 8:45 am]

BILLING CODE 6717-01-M